SMALL BUSINESS ADMINISTRATION

Office of the National Ombudsman; Regulatory Fairness Boards Annual Meeting

The U.S. Small Business Administration (SBA), Office of the National Ombudsman is announcing the annual board meeting of the ten Regional Regulatory Fairness Boards on Thursday and Friday, September 13-14, 2007, beginning at 9 a.m. As mandated by the Small Business Regulatory Enforcement Fairness Act (Pub. L. 104-121), Section 222 the purpose of this meeting is for the Regulatory Fairness Boards to advise the National Ombudsman on matters of concern to small businesses relating to enforcement activities of agencies and to report on substantiated instances of excessive enforcement against small business concerns, including any findings or recommendations of the Board as to agency enforcement practice or policy.

The meeting will be at the SBA Headquarters, 409 3rd Street, SW., Washington, DC 20416, in the Eisenhower Conference Room, 2nd Floor. For further information, please direct inquiries to José Méndez, Event Coordinator, Office of the National Ombudsman, 409 3rd Street, Suite 7125, Washington, DC 20416, phone (202) 205-6178, fax (202) 401-2707, e-mail Jose.mendez@sba.gov.

For more information on the Office of the National Ombudsman, see our Web site at http://www.sba.gov/ombudsman.

Matthew Teague,
Committee Management Officer.

[FR Doc. E7-18124 Filed 9-13-07; 8:45 am]

BILLING CODE 8025-01-P